DEPARTMENT OF HOMELAND SECURITY

Coast Guard

[USCG-2003-16780]

Area Maritime Security Advisory Committees

AGENCY: Coast Guard, DHS.

ACTION: Solicitation for Membership.

SUMMARY: Under the Federal Advisory Committee Act, the Secretary of Homeland Security is establishing Area Maritime Security Advisory Committees, and requesting qualified individuals interested in serving on these committees to apply for membership.

DATES: Requests for membership should reach your local Captain of the Port on or before January 30, 2004.

ADDRESSES: Requests for membership should be submitted to your local Captain of the Port. Local Addresses for each Captain of the Port are as follows:

MSO Boston, 455 Commercial St., Boston, MA 02109-1045, (617) 223-3001.

USCG Activities New York, 212 Coast Guard Dr., Staten Island, NY 10305, (718) 354-4037.

MSO Providence, 20 Risho Ave., East Providence, RI 02914-1208, Main Number: (410) 435-2300.

MSO Portland, ME, 103 Commercial St., Portland, ME 04101-4726, (207) 780-3251.

Group/MSO Long Island Sound, 120 Woodward Ave., New Haven, CT 06512-3698, Main Number: (203) 468-4401.

MSO Hampton Roads, Norfolk Fed. Bldg., 200 Granby St., Norfolk, VA 23510-1888, (757) 441-3295.

Coast Guard Activities Baltimore, 2401 Hawkins Point Rd., Baltimore, MD 21226-1791, (410) 576-2585.

MSO Wilmington, 1502 23rd St., Wilmington, NC 28405, Main Number: (910) 772-2200.

MSO/Group Philadelphia, 1 Washington Ave., Philadelphia, PA 19147-4395, (215) 271-4880.

MSO Miami, P.O. Box 01-6940, Miami, FL 33101-6940, Main Number: (305) 535-8705.

MSO Jacksonville, Suite 400, 7820 Arlington Expy., Jacksonville, FL 32211-7445, (904) 232-2640 X 108.

MSO Tampa, 155 Columbia Dr., Tampa, FL 33606-3598, (813) 228-2195.

MSO Savannah, Juliette G. Low Federal Bldg., 100 W. Oglethorpe Ave., Ste. 1017, Savannah, GA 31401, (912) 652-4353.

MSO Charleston, 196 Tradd St., Charleston, SC 29401-1899, (843) 724-7684.

MSO San Juan, P.O. Box 71526, San Juan, PR 00936-8626, Main Number: (787) 706-2400, (787) 706-2440.

MSO New Orleans, 1615 Poydras St., New Orleans, LA 70112-1254, (504) 589-4256.

MSO Morgan City, 800 David Dr., Morgan City, LA 70380-1304, (504) 380-5318.

MSO Corpus Christi, 555 North Carancahua, Ste. 500, Corpus Christi, TX 78478, (361) 888-3184.

MSO Houston-Galveston, P.O. Box 446, Galena Park, TX 77547-0446, (713) 671-5100.

MSO Mobile, 150 N. Royal St., Mobile, AL 36602, (334) 441-5196.

MSO Port Arthur, 2875 Jimmy Johnson Blvd., Port Arthur, TX 77640-2099, (409) 723-6509 X 248.

MSO St. Louis, 1222 Spruce St., Ste. 8-104E, St. Louis, MO 63103-2835, Main Number: (314) 539-3091.

MSO Huntington, 1415 6th Ave., Huntington, WV 25701-2420, Main Number: (304) 529-5524.

MSO Louisville, 600 Martin Luther King, Jr. Pl., Room 360, Louisville, KY 40202-2230, (502) 582-5194 X 39.

MSO Memphis, 200 Jefferson Ave., Ste. 1301, Memphis, TN 38103-2300, (901) 544-3941 X 226.

MSO Paducah, 225 Tully St., Paducah, KY 42003-1582, (270) 442-1621 X308.

MSO Pittsburgh, Kossman Bldg., Ste. 1150, 100 Forbes Ave., Pittsburgh, PA 15222-1371, (412) 644-5808 X 115.

MSO Buffalo, 1 Fuhrmann Blvd., Buffalo, NY 14203, (716) 843-9574.

MSO Chicago, 215 W. 83rd St., Ste. D, Burr Ridge, IL 60521, (630) 986-2155.

MSO Cleveland, 1055 E. 9th St., Cleveland, OH 44114, (216) 937-0126.

MSO Detroit, 110 Mt. Elliott Ave., Detroit, MI 48207, (313) 568-9580.

MSO Duluth, 600 S. Lake Ave., Canal Park, Duluth, MN 55802-2352, (218) 720-5286.

MSO Milwaukee, 2420 S. Lincoln Memorial Dr., Milwaukee, WI 53207-1997, (414) 747-7155.

MSO Toledo, The Ohio Bldg., 420 Madison Ave., Ste. 700, Toledo, OH 43604-1209, (419) 259-6372.

MSO/Group Sault Ste. Marie, 337 Water St., Sault Ste. Marie, MI 49783, (906) 635-3223.

MSO/Group Los Angeles/Long Beach, 1001 S. Seaside Ave., Bldg. 20, San Pedro, CA 90731, (310) 732-7380.

MSO San Diego, 2716 N. Harbor Dr., San Diego, CA 92101-1064, (619) 683-6477.

MSO San Francisco Bay, Bldg. 14, Coast Guard Island, Alameda, CA 94501-5100, (510) 437-3082.

MSO Puget Sound, 1519 Alaskan Way South, Bldg. 1, Seattle, WA 98134-1192, (206) 217-6232.

MSO/Group Portland, 6767 N. Basin Ave., Portland, OR 97217-3992, (503) 240-9317.

MSO Honolulu, 433 Ala Moana Blvd., Honolulu, HI 96813-4909, (808) 522-8260.

MARSEC/MSO Guam, PSC 455, Box 176, FPO AP, 96540-1056, (671) 339-2001X164.

MSO Juneau, 2760 Sherwood Lane, Ste. 2A, Juneau, AK 99801-8545, Main Number: (907) 463-2457.

MSO Anchorage, 510 L Street, Ste. 100, Anchorage, AK 99501-1946, (907) 271-6724.

MSO Prince William Sound (Valdez), 105 South Clifton, Valdez, AK 99686-0486, Main Number: (907) 835-7205.

FOR FURTHER INFORMATION CONTACT: For questions on Area Maritime Security Advisory Committees, contact Lieutenant Junior Grade Holly Wendelin at 202-267-4132. For questions about AMS Committee Charters, contact your local Captain of the Port using the information listed in the ADDRESSES section above.

SUPPLEMENTARY INFORMATION:

Establishment of Area Maritime Security Advisory Committees

Section 102 of the Maritime Transportation Security Act (MTSA) of 2002 (Pub. L. 107-295) added section 70112 to Title 46 of the U.S. Code, and authorizes the Secretary of the Department in which the Coast Guard is operating to establish Area Maritime Security Advisory Committees (AMS Committees) for any port area of the United States. The MTSA includes a provision exempting these AMS Committees from the Federal Advisory Committee Act (FACA), Public Law 92-436, 86 Stat. 470 (5 U.S.C. App.2).

The AMS Committees shall assist the Captain of the Port in the development, review, and update of the AMS Plan for their area of responsibility. Such matters may include, but are not limited to:

• Identifying critical port infrastructure and operations;

• Identifying risks (threats, vulnerabilities, and consequences);

• Determining mitigation strategies and implementation methods;

• Developing and describing the process to continually evaluate overall port security by considering consequences and vulnerabilities, how they may change over time, and what additional mitigation strategies can be applied; and

• Providing advice to, and assisting the Captain of the Port in, developing the Area Maritime Security Plan.

We anticipate that each AMS Committee will meet more than once a year. Subcommittees of each AMS Committee may also meet between meetings of the parent committee. AMS Committee meeting locations will be established by the cognizant Captain of the Port.

AMS Committee Membership

At least seven of the members of each AMS Committee must have at least 5 years of experience related to maritime or port security operations. Total number of members will be determined by the cognizant COTP. The COTP will also determine whether to have multiple AMS Committees for those COTP zones with separate, distinct port areas. Applicants may be required to pass an appropriate security background check prior to appointment to the committee.

Members' terms of office will be for 5 years; however, to permit orderly turnover of the committee's membership, the initial terms of office will be staggered, and the members initially appointed to AMS Committees will be appointed to terms of 3, 4 or 5 years. Members will be eligible to serve an additional term of office. Members will not receive any salary or other compensation for their service on an AMS Committee.

In support of the policy of the U.S.C.G. on gender and ethnic diversity, we encourage qualified women and members of minority groups to apply.

Request for Applications

Those seeking membership are not required to submit formal applications to the local COTP, however, because we do have an obligation to ensure that a specific number of members have the prerequisite maritime security experience, we encourage the submission of resumes highlighting experience in the maritime and security industries.

Dated: December 22, 2003.
L.L. Hereth,
Rear Admiral, U.S. Coast Guard, Director of Port Security.

[FR Doc. 03-32081 Filed 12-30-03; 8:45 am]

BILLING CODE 4910-15-U